DEPARTMENT OF COMMERCE

Foreign-Trade Zones Board

[Docket 65-2000]

Foreign-Trade Zone 27—Boston, Massachusetts; Application for Subzone, AstraZeneca LP (Pharmaceutical Products), Westborough, MA

An application has been submitted to the Foreign-Trade Zones Board (the Board) by the Massachusetts Port Authority, grantee of FTZ 27, requesting special-purpose subzone status for the pharmaceutical manufacturing plant of AstraZeneca LP in Westborough, Massachusetts. The application was submitted pursuant to the provisions of the Foreign-Trade Zones Act, as amended (19 U.S.C. 81a-81u), and the regulations of the Board (15 CFR part 400). It was formally filed on November 28, 2000.

AstraZeneca LP is a subsidiary of AstraZeneca PLC, a global prescription pharmaceutical manufacturer, formed in 1999 by a merger between Zeneca Group PLC (U.K.) and Astra AB (Sweden).

The Westborough plant (532,543 sq. ft./13 bldgs. on 83.3 acres) is located at 50 and 53 Otis Street, Westborough, Massachusetts. The facility (650 employees) produces finished pharmaceutical products and their intermediates, including XYLOCAINE®, POLOCAINE®, NAROPIN®, SENSORCAINE® anesthetics, and PULMICORT RESPULES®, for the treatment of asthma. Foreign-sourced materials will account for, on average, 70 percent of material value, and include items from the following general categories: Gums, starches, waxes, vegetable extracts, mineral oils, chemically pure sugars, empty capsules, protein concentrates, prepared animal feed, mineral products, inorganic acids, chlorides, clorates, sulfites, sulfates, phosphates, cyanides, silicates, radioactive chemicals, rare-earth metal compounds, hydroxides, hydrazine and hydroxylamine, chlorides, natural magnesium phosphates and carbonates, cyclic and acyclic hydrocarbons, alcohols, phenols and peroxides, esters, epoxides, acetals, aldehydes, ketone function compounds, mono- and polycarboxylic acids, phosphoric esters, amine-, carboxymide, nitrile- and oxygen-function compounds, heterocyclic compounds, sulfonamides, insecticides, rodenticides, fungicides and herbicides, fertilizers, vitamins, hormones, antibiotics, enzymes, essential oils, albumins, gelatins, activated carbon, residual lyes, acrylic polymers, color lakes, soaps and detergents, protein concentrates, gypsum, anhydrite and plasters, petroleum jelly, paraffin and waxes, sulfuric acid, other inorganic acids or compounds of nonmetals, ammonia, zinc oxide, titanium oxides, fluorides, chlorates, sulfates, salts of oxometallic acids, radioactive chemical elements, compounds of rare earth metals, derivatives of phenols or peroxides, acetals and hemiacetals, phosphoric esters and their salts, diazo-compounds, glands for therapeutic uses, wadding, gauze and bandages, pharmaceutical glaze, hair preparations, lubricating preparations, albumins, prepared glues and adhesives, catalytic preparations, diagnostic or laboratory reagents, prepared binders, acrylic polymers, self-adhesive plates and sheets, other articles of vulcanized rubber, plastic cases, cartons, boxes, printed books, brochures and similar printed matter, carboys, bottles, and flasks, stoppers, caps, and lids, aluminum foil, tin plates and sheets, taps, cocks and valves, and medical instruments and appliances.

Zone procedures would exempt AstraZeneca from Customs duty payments on foreign materials used in production for export. On domestic sales, the company would be able to choose the duty rates that apply to the finished products (duty-free) rather than the duty rates that would otherwise apply to the foreign-sourced materials noted above (duty-free to 20.0 percent). Although at the outset, 100 percent of the production of ZD-0473, a developmental drug for the treatment of cancer, will be exported, it is expected that future zone savings would primarily involve choosing the finished product duty rate on ZD-0473, (HTSUS 3004.90.9015—duty-free), rather than the rate for a foreign-sourced active ingredient (HTSUS 2843.90.0000—3.7%). The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at the address below. The closing period for their receipt is February 10, 2001. Rebuttal comments in response to material submitted during the foregoing period may be submitted during the subsequent 15-day period (to February 25, 2001).

A copy of the application and accompanying exhibits will be available for public inspection at each of the following locations:

U.S. Department of Commerce, Export Assistance Center, 164 Northern Avenue, World Trade Center, Suite 307, Boston, Massachusetts 02210.

Office of the Executive Secretary, Foreign-Trade Zones Board, U.S. Department of Commerce, Room 4008, 14th & Pennsylvania Avenue, NW., Washington, DC 20230.

Dated: November 30, 2000.
Dennis Puccinelli,
Executive Secretary.

[FR Doc. 00-31492 Filed 12-11-00; 8:45 am]

BILLING CODE 3510-DS-P